OFFICE OF MANAGEMENT AND BUDGET

[OMB Control No. 0348-NEW]

Agency Information Collection Activity: United States Digital Service (USDS), Office of Management and Budget Collection of Formative Research on Agency Service Delivery

AGENCY: United States Digital Service (USDS), Office of Management and Budget.

ACTION: Notice and request for public comment.

SUMMARY: The United States Digital Service (USDS) within the Office of Management and Budget is announcing an opportunity for public comment on a new proposed collection of information by the agency. Under the Paperwork Reduction Act (PRA) of 1995, Federal agencies are required to publish notice in the Federal Register concerning each proposed collection of information, including each proposed extension of a currently approved collection, and to allow 60 days for public comment in response to the notice. This notice solicits comments on a new collection proposed by USDS.

DATES: Consideration will be given to all comments received on or before January 31, 2022.

ADDRESSES: You may submit comments by any of the following methods:

• Web: Persons with access to the internet may comment on this notice by going to www.regulations.gov. You can search for the document by entering “Docket Number: XXXX” in the Search field. Then click the “Comment Now” button and complete the comment form.

• Email: pra@usds.gov. Please include the information collection title and the OMB control number (0348-NEW) in any correspondence.

• Fax: 202-969-0364.

FOR FURTHER INFORMATION CONTACT: Requests for additional information should be directed to Rachel Sauter, who may be reached at 202-881-7793 or Rachel.E.Sauter@omb.eop.gov.

SUPPLEMENTARY INFORMATION:

Purpose

Under the PRA (44 U.S.C. 3501-3520), Federal agencies must obtain approval from the Office of Management and Budget (OMB) for each collection of information they conduct or sponsor. “Collection of information” is defined in 44 U.S.C. 3502(3) and 5 CFR 1320.3(c) and includes certain agency requests or requirements that members of the public submit reports, keep records, or provide information to a third party. Section 3506(c)(2)(A) of the PRA requires Federal agencies to provide a 60-day notice in the Federal Register concerning each proposed collection of information, including each proposed extension of an existing collection of information, before submitting the collection for OMB approval. To comply with this requirement, USDS is publishing notice of a proposed generic clearance to conduct a variety of formative data collections with more than 9 respondents. The data collections will inform future research and program support but will not be highly systematic nor intended to be statistically representative.

The mission of USDS is to deliver better government services through technology and design. In support of that mission, USDS engages directly with program applicants and beneficiaries, and other people who use or need to use the government systems and services we are helping to improve, and incorporates their feedback into our work and recommendations. By employing human-centered design practices like user research, USDS prioritizes the user's needs and learns what works as quickly as possible, saving time and money while improving services to the public. USDS deploys small, responsive groups of designers, engineers, product managers, and other specialists to work with and empower civil servants, working with many agencies simultaneously.

Under this generic clearance, USDS would engage in a variety of formative data collections with people who use or need to use government systems and services, such as program participants, practitioners, and service providers. The data collections would occur primarily through Discovery Sprints, which are short research projects designed to quickly understand complexities of systems or services in order to identify issues with service delivery, their root causes, and opportunities for improvement. Data collections would also occur during longer projects, as needed. USDS's research serves to provide further understanding of whether people engaging directly with government services are having an effective, efficient, and satisfying experience. USDS anticipates undertaking a variety of new research projects related to social safety net and general welfare programs, economic recovery efforts, healthcare, and more. Many Federal agencies and field offices find a need to learn more about the public's perceptions, experiences and expectations; early warnings of issues with service delivery; or areas where communication, training or changes in operations might improve delivery of products or services.

USDS envisions using a variety of techniques including:

• Pre-study self-identification questionnaires

• Unmoderated comment cards/complaint forms

• Unmoderated qualitative user experience surveys (e.g., post-transaction surveys; opt-out web surveys)

• Unmoderated information architecture evaluative methods (e.g., card sorts; tree tests)

• Unmoderated content evaluative methods

• Long-term behavior and experience studies (e.g., diary study)

• Focus groups

• User research studies (e.g., user interviews; usability tests)

• Program assessment questionnaires.

Overall, this research will be designed to fulfill the following goals: (1) Discover barriers to access that create inequities for users of government systems and services; (2) inform the development of USDS and agency research, (3) discover early warnings of issues with service delivery; and (4) focus attention on areas where communication, training or changes in operations might improve delivery of products or services. These collections will allow for ongoing, collaborative and actionable communications between Federal agencies and the public. It will also allow feedback to contribute directly to the improvement of program management.

Following standard OMB requirements, USDS will submit a generic clearance information request for each individual data collection activity. Each request will include the individual instrument(s), a justification specific to the individual information collection, and any supplementary documents. OMB will attempt to review requests within 10 days of submission.

Information collected under this generic clearance will not be used to inform public policy (e.g., who is eligible for or receives benefits and services); rather the findings are meant to inform USDS and internal agency discussions about opportunities to improve service delivery. The information collected in this effort will not be the primary subject of any published agency reports. Information gathered will be used only internally for general service improvement and program management purposes and is not intended for release outside of the agency. Information gathered will yield qualitative information; the collections will not be designed or expected to yield statistically representative results, but rather provide insight about the challenges that subsets of stakeholders face. All collections will be voluntary, non-controversial, and do not raise issues of concern to other Federal Agencies.

The information collected in this effort may be made public through methodological appendices or footnotes, reports on instrument development, instrument user guides, descriptions of respondent behavior, and other publications or presentations describing findings of methodological interest. The results of this pre-testing research may be prepared for presentation at professional meetings or publication in professional journals. When necessary, in presenting findings, we will describe the study methods and limitations with regard to generalizability, and results will be labeled as exploratory in nature.

For further information: Rachel Sauter, 202-881-7793, Rachel.E.Sauter@omb.eop.gov.

Type of review: New.

Affected public: Key stakeholder groups involved in specific Federal and State-administered programs; state or local government officials; participants in specific Federal and State-administered programs or similar comparison groups; and experts in fields pertaining to specific Federal and State research and programs.

USDS estimates that the total burden of this information collection over a three-year period will be 20,676 hours. USDS estimates that the annual burden of this information collection is as follows, with one response per respondent:

Estimated Annual Burden
Type of collection | Number of respondents | Minutes per response | Total hours
Pre-study self-identification questionnaire | 10,000 | 5 | 833
Unmoderated comment cards/complaint forms | 2,500 | 5 | 208
Unmoderated qualitative user experience questionnaire | 2,500 | 30 | 1,250
Unmoderated information architecture evaluative methods | 800 | 60 | 800
Unmoderated content evaluative methods | 800 | 60 | 800
Long-term behavior and experience studies | 50 | 300 | 250
Focus groups | 100 | 60 | 100
User research studies | 2,500 | 60 | 2,500
Program assessment questionnaires | 300 | 30 | 150
Total | 19,550 | 610 | 6,892

Request for Comments

In compliance with the requirements of Section 3506(c)(2)(A) of the PRA, USDS is soliciting public comment on the specific aspects of the information collection described above. Copies of the proposed collection of information can be obtained by writing to pra@usds.gov. All requests should be identified by the title of the information collection.

USDS specifically requests comments on (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install, and utilize technology and systems for the purpose of collecting, validating, and verifying information, processing and maintaining information, and disclosing and providing information; to train personnel and to be able to respond to a collection of information, to search data sources, to complete and review the collection of information; and to transmit or otherwise disclose the information. Consideration will be given to comments and suggestions submitted within 60 days of this publication.

An agency may not conduct or sponsor, and a person is not required to respond to, a collection of information unless it displays a currently valid OMB control number.

Authority: USDS is undertaking the collections at the discretion of the agency, and under the general authority of 44 U.S.C. 3504 and the Information Technology Oversight and Reform (ITOR) fund, as provided by the Consolidated Appropriations Act, 2021, Division E, Title II, 116 H.R. 133.

Mina Hsiang,
Administrator, United States Digital Service.

[FR Doc. 2021-26081 Filed 11-30-21; 8:45 am]

BILLING CODE 3110-05-P